DEPARTMENT OF ENERGY

Federal Energy Regulatory Commission

[Docket No. CP12-472-000]

Williston Basin Interstate Pipeline Company; Notice of Request Under Blanket Authorization

Take notice that on June 4, 2012, Williston Basin Interstate Pipeline Company (Wiliston Basin), 1250 West Century Avenue, Bismark, North Dakota, 58503, filed in Docket No. CP12-472-000, an application pursuant to Sections 157.210 and 157.213(b) of the Commission's Regulations under the Natural Gas Act (NGA) as amended and Williston Basin's blanket certificate issued in Docket Nos. CP82-487-000, et al.,¹ for the acquisition and operation of natural gas facilities in Sheridan County and Campbell County, Wyoming and modification of underground storage facilities at its Baker Storage Reservoir in Fallon County, Montana. The details of Williston Basin's proposal is more fully set forth in the application which is on file with the Commission and open to the public for inspection.

¹ 30 FERC ¶ 61,143

Williston Basin proposes to acquire about 74 miles of 16-inch diameter pipeline from Bitter Creek Pipelines, LLC (Bitter Creek), which currently performs a non-jurisdictional gathering function, as well as installing filtration equipment at its Monarch Compressor Station. Together these facilities will enable Williston Basin to increase the firm storage deliverability from its Baker Storage Reservoir that it will use to make up for declining deliverability from its Billy Creek Storage Reservoir on its Sheridan Subsystem. Williston Basin states that its proposal will increase system security and reliability by connecting its stand-alone Sheridan Subsystem with the rest of its transmission facilities and, ultimately allow for the future abandonment of its Billy Creek Storage facility. Williston Basin estimates that the cost of the project will be approximately $8,367,00.00.

Any questions concerning this prior notice request may be directed to Keith A. Tiggelaar, Director of Regulatory Affairs, Williston Basin Interstate Pipeline Company, 1250 West Century Avenue, Bismarck, North Dakota 58503, (701) 530-1560 or via email at keith.tiggelaar@wbip.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (www.ferc.gov) under the “e-Filing” link. Persons unable to file electronically should submit an original and 14 copies of the protest or intervention to the Federal Energy Regulatory Commission, 888 First Street NE., Washington, DC 20426.

Dated: June 14, 2012.
Kimberly D. Bose,
Secretary.

[FR Doc. 2012-15036 Filed 6-19-12; 8:45 am]

BILLING CODE 6717-01-P